ENVIRONMENTAL PROTECTION AGENCY

[EPA-HQ-OPP-2012-0489; FRL-9364-2]

Cancellation of Pesticides for Non-Payment of Year 2012 Registration Maintenance Fees; Correction

AGENCY: Environmental Protection Agency (EPA).

ACTION: Notice; correction.

SUMMARY: EPA issued a notice in the Federal Register of July 27, 2012, concerning the cancellation of pesticides for non-payment of year 2012 registration maintenance fees. This document is being issued to correct Table 1 and Table 2 of the cancellation notice by removing six entries which were inadvertently included.

FOR FURTHER INFORMATION CONTACT: Michael Yanchulis, Information Technology and Resources Management Division (7502P), Office of Pesticide Programs, Environmental Protection Agency, 1200 Pennsylvania Ave. NW., Washington, DC 20460-0001; telephone number: (703) 347-0237; email address: yanchulis.michael@epa.gov.

SUPPLEMENTARY INFORMATION:

I. General Information

A. Does this action apply to me?

The Agency included in the July 27, 2012, notice a list of those who may be potentially affected by this action. If you have questions regarding the applicability of this action to a particular entity, consult the person listed under FOR FURTHER INFORMATION CONTACT.

B. How can I get copies of this document and other related information?

EPA has established a docket for this action under docket identification (ID) number EPA-HQ-OPP-2012-0489. Publicly available docket materials are available either in the electronic docket at http://www.regulations.gov.

II. What does this correction do?

This notice is being issued to correct Table 1 and Table 2 of the cancellation notice. This correction removes six entries which were inadvertently included.

FR Doc. 2012-18375 published in the Federal Register of July 27, 2012 (77 FR 44229) (FRL-9355-7) is corrected as follows:

1. On page 44230, in Table 1, remove the complete entry for: “TX-11-0003.”

2. On page 44230, in Table 2, remove the complete entry for: “51032-00014.”

3. On page 44231, in Table 2, remove the complete entry for: “72468-00003,” “72468-00005,” “82744-00001,” and “82744-00002.”

List of Subjects

Environmental protection, Administrative practice and procedure, Pesticides and pests.

Dated: September 25, 2012.
Michael Hardy,
Acting Director, Information Technology and Resource Management Division, Office of Pesticide Programs.

[FR Doc. 2012-24894 Filed 10-16-12; 8:45 am]

BILLING CODE 6560-50-P